DEPARTMENT OF COMMERCE

Foreign-Trade Zones Board

[B-65-2017]

Foreign-Trade Zone (FTZ) 92—Harrison County, Mississippi; Authorization of Production Activity; Vision Technologies Marine, Inc.; (Ocean-Going Vessels); Pascagoula, Mississippi

On October 10, 2017, the Mississippi Coast Foreign-Trade Zone, Inc., grantee of FTZ 92, submitted a notification of proposed production activity to the FTZ Board on behalf of Vision Technologies Marine, Inc., within Site 6, in Pascagoula, Mississippi.

The notification was processed in accordance with the regulations of the FTZ Board (15 CFR part 400), including notice in the Federal Register inviting public comment (82 FR 49177, October 24, 2017). On February 7, 2018, the applicant was notified of the FTZ Board's decision that no further review of the activity is warranted at this time. The production activity described in the notification was authorized, subject to the FTZ Act and the FTZ Board's regulations, including Section 400.14, subject to a restriction requiring that curtains be admitted to the zone in privileged foreign status (19 CFR 146.41) or domestic status (19 CFR 146.43), and further subject to the following conditions:

(1) Any foreign steel mill products admitted to the zone for the Vision Technologies Marine, Inc., activity, including plate, angles, shapes, channels, rolled steel stock, bars, pipes and tubes, not incorporated into merchandise otherwise classified, and which is used in manufacturing, shall be subject to full customs duties in accordance with applicable law, unless the Executive Secretary determines that the same item is not then being produced by a domestic steel mill.

(2) Vision Technologies Marine, Inc., shall meet its obligation under 15 CFR 400.13(b) by annually advising the FTZ Board's Executive Secretary as to significant new contracts with appropriate information concerning foreign purchases otherwise dutiable, so that the FTZ Board may consider whether any foreign dutiable items are being imported for manufacturing in the zone primarily because of FTZ procedures and whether the FTZ Board should consider requiring customs duties to be paid on such items.

Dated: February 7, 2018.
Andrew McGilvray,
Executive Secretary.

[FR Doc. 2018-02910 Filed 2-12-18; 8:45 am]

BILLING CODE 3510-DS-P